FEDERAL COMMUNICATIONS COMMISSION

47 CFR Part 73

[DA 01-2317; MM Docket No. 01-87; RM-10092]

Television Broadcasting Services; International Falls and Chisholm, MN

AGENCY: Federal Communications Commission.

ACTION: Final rule.

SUMMARY: In response to a proposal filed on behalf of Channel 11, License, Inc., permittee of Station KRII, Channel 11, International Falls, Minnesota, the Commission reallots Channel 11 from International Falls to Chisholm, Minnesota, as that community's first local television transmission service and modifies the authorization for Station KRII (File No. BPCT-19960709KR) accordingly, pursuant to the provisions of Section 1.420(i) of the Commission's Rules. See 66 FR 20224, April 20, 2001. The DTV Table contained in Section 73.622(b) of the Commission's Rules is not affected by the requested reallotment as there is no paired DTV channel for Station KRII's authorization. Coordinates used for Channel 11 at Chisholm are 47-51-39 NL and 92-56-43 WL. Additionally, as Chisholm is located within 400 kilometers (250 miles) of the U.S.-Canada border, concurrence of the Canadian government to this allotment was requested but has not been received. Therefore, the allotment of Channel 11 at Chisholm is conditioned on concurrence of the Canadian government in accordance with the 1994 U.S.-Canada TV Agreement. With this action, this docketed proceeding is terminated.

DATES: Effective November 19, 2001.

FOR FURTHER INFORMATION CONTACT: Nancy Joyner, Mass Media Bureau, (202) 418-2180.

SUPPLEMENTARY INFORMATION: This is a synopsis of the Commission's Report and Order, MM Docket No. 01-87, adopted September 26, 2001, and released October 5, 2001. The full text of this Commission decision is available for inspection and copying during normal business hours in the FCC's Reference Center (Room CY-A257), 445 12th Street, SW., Washington, DC. The complete text of this decision may also be purchased from the Commission's copy contractor, Qualtex International, Portals II, 425 12th Street, SW., Room CY-B402, Washington, DC 20554, telephone (202) 863-2893, facsimile 202-863-2898, or via e-mail qualexint@aol.com.

List of Subjects in 47 CFR Part 73

Television broadcasting.

Part 73 of Title 47 of the Code of Federal Regulations is amended as follows:

PART 73—TELEVISION BROADCAST SERVICES

1. The authority citation for part 73 reads as follows:

Authority: 47 U.S.C. 154, 303, 334, 336.

§ 73.606 [Amended]

2. Section 73.606(b), the Table of TV Allotments under Minnesota, is amended by adding Chisholm, Channel 11, and removing Channel 11 at International Falls.

Federal Communications Commission.
John A. Karousos,
Chief, Allocations Branch, Policy and Rules Division, Mass Media Bureau.

[FR Doc. 01-26065 Filed 10-16-01; 8:45 am]

BILLING CODE 6712-01-P